FEDERAL COMMUNICATIONS COMMISSION

Notice of Public Information Collection(s) Being Submitted for Review to the Office of Management and Budget

October 27, 2008.

SUMMARY: The Federal Communications Commission, as part of its continuing effort to reduce paperwork burden, invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before December 4, 2008. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via Internet at Nicholas_A._Fraser@omb.eop.gov and to Judith-B. Herman@fcc.gov, Federal Communications Commission, or an e-mail to PRA@fcc.gov. To view a copy of this information collection request (ICR) submitted to OMB: (1) Go to the Web page http://reginfo.gov/public/do/PRAMain, (2) look for the section of the Web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information or copies of the information collection(s), contact Judith B. Herman at 202-418-0214 or via the Internet at Judith-B.Herman@fcc.gov.

SUPPLEMENTARY INFORMATION: OMB Control Number: 3060-0742.

Title: Sections 53.21 through 52.33, Telephone Number Portability (47 CFR part 52, Subpart C), and CC Docket No. 95-116.

Report No.: N/A.

Type of Review: Extension of a currently approved collection.

Respondents: Business or other for-profit.

Number of Respondents: 1,990 respondents; 1,990 responses.

Estimated Time per Response: 2-50 hours (average).

Frequency of Response: On occasion and one-time reporting requirements, recordkeeping requirement and third party disclosure requirement.

Obligation to Respond: Required to obtain or retain benefits. Statutory authority for this information collection is contained in 47 U.S.C. Sections 1, 2, 4, 251 and 332 of the Communications Act of 1934, as amended.

Total Annual Burden: 5,850 hours.

Total Annual Cost: $91,000.

Privacy Act Impact Assessment: N/A.

Nature and Extent of Confidentiality: This collection does not address information of a confidential nature. Respondents may request confidential treatment of materials submitted to the Commission which they believe should be withheld from public inspection under 47 CFR 0.459 of the Commission's rules.

Needs and Uses: The Commission will submit this information collection (IC) to the OMB as an extension during this comment period to obtain the full three-year clearance from them. The Commission is reporting a −8,483 hourly burden reduction and a −$7,000 cost adjustment. This adjustment is due to a decrease in the estimated number of respondents/responses (from 2,027 to 1,990) that was submitted to the OMB in 2005. The annual cost estimate has also decreased due to an adjustment of the tariff and cost support estimates. In the 2005 submission to the OMB, the Commission estimated that it would take approximately 149 hours for the estimate time per response. We have reduced that estimate to 50 hours per response. Thus, the total annual burden hours have been reduced. The annual cost estimate has increased +$7,000 due to an increase in the filing fee ($720 in 2005) to $775 per tariff.

Part 52, Subpart C implements the statutory requirements that local exchange carriers (LECs) and Commercial Mobile Radio Service (CMRS) providers provide local number portability (LNP) as set forth in Sections 1, 2, 4, 251 and 332 of the Telecommunications Act of 1996 (“1996 Act”). The Commission requires the following information to be collected from various entities: (1) Requests for long-term number portability; (2) petitions to extend implementation deadline; (3) tariffs and cost support materials; and (4) recordkeeping requirement.

(1) Long-term number portability must be provided by LECs and CMRS providers in switches for which another carrier has made a specific request for number portability, according to the Commission's deployment schedule. Wireline carriers began providing LNP in 1998. In a Memorandum Opinion and Order, FCC 02-215, CC Docket No. 95-116, the Commission extended the deadline for CMRS providers to offer LNP. CMRS providers began offering LNP in 2003.

(2) Carriers that are unable to meet the deadlines for implementing a long-term number portability solution are required to file with the Commission at least 60 days in advance of the deadline a petition to extend the time by which implementation in its network will be completed.

(3) Incumbent LECs may recover their carrier-specific costs directly related to providing long-term number portability by establishing in tariffs filed with the Commission certain number portability charges. See 47 CFR 52.33. Incumbent LECs are required to include many details in their cost support that are unique to the number portability proceeding pursuant to the Cost Classification Order. For instance, incumbent LECs must demonstrate that any incremental overhead costs claimed in their cost support are actually new cost incremental to and resulting from the provision of long-term number portability. See the Cost Classification Order.

(4) Incumbent LECs are required to maintain records that detail both the nature and specific amount of these carrier-specific costs that are directly related to number portability, and those carrier-specific costs that are not directly related to number portability.

The information collected and required by the Commission will be used to comply with Section 251 of the Telecommunications Act of 1996.

Federal Communications Commission.
Marlene H. Dortch,
Secretary.

[FR Doc. E8-26250 Filed 11-3-08; 8:45 am]

BILLING CODE 6712-01-P